DEPARTMENT OF TRANSPORTATION

Federal Aviation Administration

14 CFR Part 39

[Docket No. FAA-2023-0428; Project Identifier MCAI-2022-01250-T; Amendment 39-22442; AD 2023-10-06]

RIN 2120-AA64

Airworthiness Directives; Airbus SAS Airplanes

AGENCY: Federal Aviation Administration (FAA), DOT.

ACTION: Final rule.

SUMMARY: The FAA is superseding Airworthiness Directive (AD) 2017-06-07, which applied to all Airbus SAS Model A330-200 Freighter, -200, and -300 series airplanes; and A340-200, -300, -500, and -600 series airplanes. AD 2017-06-07 required identification of potentially affected inboard flap parts, a one-time eddy current inspection to identify which material the parts are made of, and, depending on findings, replacement with serviceable parts. This AD was prompted by a determination that, even if affected inboard flaps were not installed on airplanes during production, affected inboard flaps could be installed on airplanes as spare parts. This AD continues to require the actions in AD 2017-06-07, as specified in a European Union Aviation Safety Agency (EASA) AD, which is incorporated by reference. This AD also reduces the allowance for the installation of affected parts under certain conditions. The FAA is issuing this AD to address the unsafe condition on these products.

DATES: This AD is effective July 11, 2023.

The Director of the Federal Register approved the incorporation by reference of a certain publication listed in this AD as of July 11, 2023.

ADDRESSES:

AD Docket: You may examine the AD docket at regulations.gov under Docket No. FAA-2023-0428; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0428.

FOR FURTHER INFORMATION CONTACT: Vladimir Ulyanov, Aviation Safety Engineer, FAA, International Validation Branch, 1600 Stewart Avenue, Suite 410, Westbury, NY 11590; telephone 206-231-3229; email Vladimir.Ulyanov@faa.gov.

SUPPLEMENTARY INFORMATION:

Background

The FAA issued a notice of proposed rulemaking (NPRM) to amend 14 CFR part 39 to supersede AD 2017-06-07, Amendment 39-18831 (82 FR 17107, April 10, 2017) (AD 2017-06-07). AD 2017-06-07 applied to all Airbus SAS Model A330-223F and -243F airplanes; A330-201, -202, -203, -223, and -243 airplanes; A330-301, -302, -303, -321, -322, -323, -341, -342, and -343 airplanes; A340-211, -212, and -213 airplanes; A340-311, -312, and -313 airplanes; A340-541 airplanes; and A340-642 airplanes. AD 2017-06-07 was prompted by an MCAI originated by EASA, which is the Technical Agent for the Member States of the European Union. EASA issued AD 2016-0231, dated November 22, 2016 (EASA AD 2016-0231), which superseded EASA AD 2016-0082, dated April 27, 2016, to correct an unsafe condition. AD 2017-06-07 required identification of potentially affected inboard flap parts, a one-time eddy current inspection to identify which material the parts are made of, and, depending on findings, replacement with serviceable parts. The FAA issued AD 2017-06-07 to detect and correct structural parts of inboard flaps made of nonconforming aluminum alloy, which could result in reduced structural integrity of the airplane.

The NPRM published in the Federal Register on March 8, 2023 (88 FR 14303). The NPRM was prompted by AD 2022-0189, dated September 19, 2022, issued by EASA (EASA AD 2022-0189) (also referred to as the MCAI), which superseded EASA AD 2016-0231. The MCAI states that since EASA AD 2016-0231 was issued, it was determined that, even if affected inboard flaps were not installed on airplanes during production, affected inboard flaps could be installed on airplanes as spare parts. The unsafe condition, if not addressed, could result in reduced structural integrity of the airplane.

You may examine the MCAI in the AD docket at regulations.gov under Docket No. FAA-2023-0428.

In the NPRM, the FAA proposed to continue to require the actions in AD 2017-06-07, as specified in EASA AD 2022-0189. The NPRM also proposed to reduce the allowance for the installation of affected parts under certain conditions. The FAA is issuing this AD to address the unsafe condition on these products.

Discussion of Final Airworthiness Directive

Comments

The FAA received one comment from Air Line Pilots Association, International (ALPA), who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0189 specifies procedures for identification of potentially affected inboard flap parts, a one-time special detailed inspection (eddy current) to identify which material the parts are made of, and, depending on findings, replacement with serviceable parts. The MCAI also reduces the allowance for the installation of affected parts under certain conditions. This material is reasonably available because the interested parties have access to it through their normal course of business or by the means identified in the ADDRESSES section.

Costs of Compliance

The FAA estimates that this AD affects 36 airplanes of U.S. registry. The FAA estimates the following costs to comply with this AD:

Estimated Costs for Required Actions
Action | Labor cost | Parts cost | Cost per product | Cost on U.S. operators
Retained actions from AD 2017-06-07 | 10 work-hours × $85 per hour = $850 | $0 | $850 | $30,600

The FAA estimates the following costs to do any necessary on-condition action that would be required based on the results of any required actions. The FAA has no way of determining the number of aircraft that might need this on-condition action:

Estimated Costs of On-Condition Actions
Labor cost | Parts cost | Cost per product
60 work-hours × $85 per hour = $5,100 | $1,345,000 | $1,350,100

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-06-07, Amendment 39-18831 (82 FR 17107, April 10, 2017); and

b. Adding the following new AD:

2023-10-06 Airbus SAS: Amendment 39-22442; Docket No. FAA-2023-0428; Project Identifier MCAI-2022-01250-T.

(a) Effective Date

This airworthiness directive (AD) is effective July 11, 2023.

(b) Affected ADs

This AD replaces AD 2017-06-07, Amendment 39-18831 (82 FR 17107, April 10, 2017) (AD 2017-06-07).

(c) Applicability

This AD applies to all Airbus SAS Model A330-223F and -243F airplanes; A330-201, -202, -203, -223, and -243 airplanes; A330-301, -302, -303, -321, -322, -323, -341, -342, and -343 airplanes; A340-211, -212, and -213 airplanes; A340-311, -312, and -313 airplanes; A340-541 airplanes; and A340-642 airplanes; certificated in any category.

(d) Subject

Air Transport Association (ATA) of America Code 57, Wings.

(e) Unsafe Condition

This AD was prompted by reports that nonconforming aluminum alloy was used to manufacture structural parts on the inboard flap. The FAA is issuing this AD to detect and correct structural parts of inboard flaps made of nonconforming aluminum alloy. The unsafe condition, if not addressed, could result in reduced structural integrity of the airplane.

(f) Compliance

Comply with this AD within the compliance times specified, unless already done.

(g) Requirements

Except as specified in paragraphs (h) and (i) of this AD: Comply with all required actions and compliance times specified in, and in accordance with, European Union Aviation Safety Agency (EASA) AD 2022-0189, dated September 19, 2022 (EASA AD 2022-0189).

(h) Exceptions to EASA AD 2022-0189

(1) Where EASA AD 2022-0189 refers to May 11, 2016 (the effective date of EASA AD 2016-0082, dated April 27, 2016), this AD requires using May 15, 2017 (the effective date of AD 2017-06-07).

(2) Where EASA AD 2022-0189 refers to its effective date, this AD requires using the effective date of this AD.

(3) This AD does not adopt the “Remarks” section of EASA AD 2022-0189.

(i) No Reporting Requirement

Although the service information referenced in EASA AD 2022-0189 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office.

(ii) AMOCs approved previously for AD 2017-06-07 are approved as AMOCs for the corresponding provisions of EASA AD 2022-0189 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Vladimir Ulyanov, Aviation Safety Engineer, FAA, International Validation Branch, 1600 Stewart Avenue, Suite 410, Westbury, NY 11590; telephone 206-231-3229; email Vladimir.Ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0189, dated September 19, 2022.

(ii) [Reserved]

(3) For EASA AD 2022-0189, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on May 22, 2023.
Ross Landes,
Deputy Director for Regulatory Operations, Compliance & Airworthiness Division, Aircraft Certification Service.

[FR Doc. 2023-11930 Filed 6-5-23; 8:45 am]

BILLING CODE 4910-13-P